DEPARTMENT OF TRANSPORTATION

Surface Transportation Board

[STB Docket No. AB-1051X]

Gloster Southern Railroad Company LLC—Discontinuance of Service Exemption—in Amite and Wilkinson Counties, MS and East Feliciana Parish, LA

Gloster Southern Railroad Company LLC (GLSR) has filed a verified notice of exemption under 49 CFR 1152 Subpart F—Exempt Abandonments and Discontinuances of Service to discontinue service over a 32.7-mile line of railroad between milepost 0.0, at Slaughter, LA, and milepost 32.7, at Gloster, MS, in East Feliciana Parish, LA, and Wilkinson and Amite Counties, MS. The line traverses United States Postal Service Zip Codes 39631, 39638, 70730, 70761, and 70777.

GLSR has certified that: (1) No traffic has moved over the line for at least 2 years; (2) any overhead traffic can be rerouted over other lines; (3) no formal complaint filed by a user of rail service on the line (or by a state or local government entity acting on behalf of such user) regarding cessation of service over the line either is pending with the Board or with any U.S. District Court or has been decided in favor of complainant within the 2-year period; and (4) the requirements at 49 CFR 1105.12 (newspaper publication) and 49 CFR 1152.50(d)(1) (notice to governmental agencies) have been met.

As a condition to this exemption, any employee adversely affected by the discontinuance of service shall be protected under Oregon Short Line R. Co.—Abandonment—Goshen, 360 I.C.C. 91 (1979). To address whether this condition adequately protects affected employees, a petition for partial revocation under 49 U.S.C. 10502(d) must be filed.

Provided no formal expression of intent to file an offer of financial assistance (OFA) has been received, this exemption will be effective on January 13, 2010,¹ unless stayed pending reconsideration. Petitions to stay that do not involve environmental issues and formal expressions of intent to file an OFA for continued rail service under 49 CFR 1152.27(c)(2),² must be filed by December 24, 2009.³ Petitions to reopen must be filed by January 5, 2010, with the Surface Transportation Board, 395 E Street, SW., Washington, DC 20423-0001.

¹ GLSR submitted its original notice of exemption on October 27, 2009, without an affidavit certifying newspaper publication as required under 49 CFR 1105.12. On November 24, 2009, GLSR filed such an affidavit. Accordingly, the file date for this notice of exemption is November 24, 2009.

² Each OFA must be accompanied by the filing fee, which currently is set at $1,500. See 49 CFR 1002.2(f)(25).

³ Because this is a discontinuance proceeding and not an abandonment, trail use/rail banking and public use conditions are not appropriate. Likewise, no environmental or historical documentation is required here under 49 CFR 1105.6(c) and 1105.8(b), respectively.

A copy of any petition filed with the Board should be sent to GLSR's representative: Fritz R. Kahn, Fritz R. Kahn, P.C., 1920 N Street, NW. (8th floor), Washington, DC 20036.

If the verified notice contains false or misleading information, the exemption is void ab initio.

Board decisions and notices are available on our Web site at: http://www.stb.dot.gov.

Decided: December 8, 2009.
By the Board, Joseph H. Dettmar, Acting Director, Office of Proceedings.
Kulunie L. Cannon,
Clearance Clerk.

[FR Doc. E9-29638 Filed 12-11-09; 8:45 am]

BILLING CODE 4915-01-P